DEPARTMENT OF HEALTH AND HUMAN SERVICES

National Toxicology Program (Ntp); Center for the Evaluation of Risks to Human Reproduction (CERHR); Announcement of the Second Bisphenol A Expert Panel Meeting and Availability of Interim Draft Expert Panel Report

AGENCY: National Institute of Environmental Health Sciences (NIEHS); National Institutes of Health.

ACTION: Announcement of a meeting and request for public comment.

SUMMARY: CERHR announces the second meeting of the expert panel on bisphenol A on May 21-23, 2007, tentatively planned for the Washington, DC area. The interim draft expert panel report will be posted on the CERHR Web site (http://cerhr.niehs.nih.gov) and available in printed text from CERHR (see “FOR FURTHER INFORMATION CONTACT” below) by April 20. CERHR invites submission of written public comments on the interim draft expert panel report (see “SUPPLEMENTARY INFORMATION” below). The expert panel meeting is open to the public with time scheduled for oral public comment. Attendance is limited only by the available meeting room space. CERHR also announces that the working groups for sections 3 and 4 of the expert panel report will meet April 5-6, 2007, in Durham, NC to continue discussions not completed at the March meeting.

DATES: The second CERHR expert panel meeting on bisphenol A will be held May 21-23, 2007. The interim draft expert panel report containing sections 1-4 will be available for public comment by April 20, 2007. Written public comments on the interim draft report must be received by May 14. Time will be set-aside at the expert panel meeting on May 21 for oral public comments. Individuals wishing to make oral public comments are asked to contact Dr. Michael D. Shelby, CERHR Director, by May 14, 2007, and if possible, send a copy of their PowerPoint slides, statement, or talking points at that time. Persons needing special assistance, such as sign language interpretation or other reasonable accommodation in order to attend, should contact 919-541-2475 (voice), 919-541-4644 TTY (text telephone), through the Federal TTY Relay System at 800-877-8339, or by e-mail to niehsoeeo@niehs.nih.gov. Requests should be made at least seven business days in advance of the event.

ADDRESSES: The location of the second expert panel meeting on bisphenol A is not yet set. Comments on the interim draft expert panel report should be sent to Dr. Michael D. Shelby, CERHR Director, NIEHS, P.O. Box 12233, MD EC-32, Research Triangle Park, NC 27709 (mail), (919) 316-4511 (fax), or shelby@niehs.nih.gov (e-mail). Courier address: CERHR, 79 T.W. Alexander Drive, Building 4401, Room 103, Research Triangle Park, NC 27709. The working groups will meet in Durham, NC.

FOR FURTHER INFORMATION CONTACT: Dr. Michael D. Shelby, CERHR Director, 919-541-3455, shelby@niehs.nih.gov.

SUPPLEMENTARY INFORMATION:

Background

CERHR convened the first expert panel meeting on March 5-7 in Alexandria, VA to assess the potential reproductive and developmental hazards of bisphenol A. The panel discussed the scientific evidence and made revisions to the draft expert panel report on bisphenol A, but because of the length and complexity of this evaluation, the panel was unable to complete its task (a meeting summary is available at http://cerhr.niehs.nih.gov/chemicals/bisphenol/bisphenol.html).

The expert panel will reconvene on May 21-23, 2007, for a second meeting. The meeting location, which is not yet set, will be posted on the CERHR Web site when finalized along with a schedule for the meeting. The meeting will begin each day at 8:30 a.m. and continue until adjournment. It is expected to adjourn by noon on May 23, although adjournment may occur earlier or later depending upon the time needed for the expert panel to complete its work. The expert panel will (1) continue its review, (2) finalize sections 1-4 of the draft report, (3) reach conclusions regarding whether exposure to bisphenol A is a hazard to human reproduction or development, and (4) write Section 5 Summary, Conclusions, and Critical Data Needs.

At the March meeting, working groups for sections 1-4 of the draft report met periodically to discuss their sections and prepare materials for deliberation by the panel during public plenary sessions. The working groups for Section 3 Developmental Toxicity Data and Section 4 Reproductive Toxicity Data will meet on April 5-6 in Durham, NC to continue discussions not completed at the March meeting. Their edits will be included in the interim draft expert panel report, which will be posted on the CERHR Web site and available for public comment by April 20, and brought before the expert panel during the public plenary sessions at the May 21-23 meeting.

The interim draft report, which will show all edits to date, will be posted on the CERHR Web site by April 20 and serve as the starting point for the panel's discussions at its May meeting.

Bisphenol A (CAS RN: 80-5-07) is a high production volume chemical used in the production of epoxy resins, polyester resins, polysulfone resins, polyacrylate resins, polycarbonate plastics, and flame retardants. Polycarbonate plastics are used in food and drink packaging; resins are used as lacquers to coat metal products such as food cans, bottle tops, and water supply pipes. Some polymers used in dental sealants and tooth coatings contain bisphenol A. Exposure to the general population can occur through direct contact to bisphenol A or by exposure to food or drink that has been in contact with a material containing bisphenol A. CERHR selected this chemical for evaluation because of (1) high production volume, (2) widespread human exposure, (3) evidence of reproductive toxicity in laboratory animal studies, and (4) public concern.

Request for Comments

The CERHR invites written public comments on the interim draft expert panel report on bisphenol A. Any comments received will be posted on the CERHR Web site prior to the second meeting and distributed to the expert panel and CERHR staff for their consideration in revising the draft report and/or preparing for the second meeting. Persons submitting written comments are asked to include their name and contact information (affiliation, mailing address, telephone and facsimile numbers, e-mail, and sponsoring organization, if any) and send them to Dr. Shelby (see ADDRESSES above) for receipt by May 14, 2007.

Time will be set-aside on May 21, 2007, for the presentation of oral public comments at the expert panel meeting. Seven minutes will be available for each speaker (one speaker per organization). When registering to comment orally, please provide your name, affiliation, mailing address, telephone and facsimile numbers, e-mail and sponsoring organization (if any). If possible, send a copy of the PowerPoint slides, statement, or talking points to Dr. Shelby by May 14. This statement will be provided to the expert panel to assist them in identifying issues for discussion and will be noted in the meeting record. Registration for presentation of oral comments will also be available at the meeting on May 21, 2007, from 7:30-8:30 a.m. Persons registering at the meeting are asked to bring 20 copies of their statement or talking points for distribution to the expert panel and for the record.

Background Information on CERHR

NTP established CERHR in June 1998 [Federal Register, December 14, 1998 (Volume 63, Number 239, page 68782)]. CERHR is a publicly accessible resource for information about adverse reproductive and/or developmental health effects associated with exposure to environmental and/or occupational exposures. Expert panels conduct scientific evaluations of agents selected by the CERHR in public forums.

CERHR invites the nomination of agents for review or scientists for its expert registry. Information about CERHR and the nomination process can be obtained from its homepage (http://cerhr.niehs.nih.gov) or by contacting Dr. Shelby (see FOR FURTHER INFORMATION CONTACT above). CERHR selects chemicals for evaluation based upon several factors including production volume, potential for human exposure from use and occurrence in the environment, extent of public concern, and extent of data from reproductive and developmental toxicity studies.

CERHR follows a formal, multi-step process for review and evaluation of selected chemicals. The formal evaluation process was published in the Federal Register on July 16, 2001 (Volume 66, Number 136, pages 37047-37048) and is available on the CERHR Web site under “About CERHR” or in printed copy from CERHR.

Dated: March 21, 2007.
David A. Schwartz,
Director, National Institute of Environmental Health Sciences and National Toxicology Program.

[FR Doc. E7-6080 Filed 3-30-07; 8:45 am]

BILLING CODE 4140-01-P